DEPARTMENT OF THE INTERIOR

National Park Service

[NPS-WASO-NRNHL-11084; 2200-3200-665]

Landmarks Committee of the National Park System Advisory Board Meeting

AGENCY: National Park Service, Interior.

ACTION: Notice of meeting.

SUMMARY: Notice is hereby given in accordance with the Federal Advisory Committee Act, 5 U.S.C. Appendix (1988), that a meeting of the Landmarks Committee of the National Park System Advisory Board will be held beginning at 10 a.m. on November 7, 2012, at the following location. The meeting will continue beginning at 9:30 a.m. on November 8, 2012.

DATES: The meeting will be held on November 7, 2012, from 10 a.m. to 4:30 p.m.; and November 8 from 9:30 a.m. to 1 p.m., Eastern Standard Time, inclusive.

Location: The meeting will be held at the General Federation of Women's Clubs, 1734 N Street NW., 2nd Floor Parlor, Washington, DC 20036.

Agenda: The National Park System Advisory Board and its Landmarks Committee may consider the following nominations:

Alabama

EDMUND PETTUS BRIDGE, Dallas County

Connecticut

HARRIET BEECHER STOWE HOUSE, Hartford

Illinois

SECOND PRESBYTERIAN CHURCH, Chicago

Kentucky

CAMP NELSON HISTORIC AND ARCHEOLOGICAL DISTRICT, Jessamine County

GEORGE T. STAGG DISTILLERY, Frankfort

Maine

CAMDEN AMPHITHEATRE AND PUBLIC LIBRARY, Camden

New Hampshire

EPIC OF AMERICAN CIVILIZATION MURALS, BAKER LIBRARY, Hanover

New Jersey

HINCHCLIFFE STADIUM, Paterson

New York

YADDO, Saratoga Springs

Oklahoma

HONEY SPRINGS BATTLEFIELD, McIntosh and Muskogee Counties

Puerto Rico

CASA DRA. CONCHA MELÉNDEZ RAMÍREZ, San Juan

OLD SAN JUAN HISTORIC DISTRICT (DISTRITO HISTÓRICO DEL VIEJO SAN JUAN), San Juan

Virginia

PEAR VALLEY, Eastville

Proposed Amendments to Existing Designations

OCEAN DRIVE HISTORIC DISTRICT, Newport, RI (updated documentation)

PENNSYLVANIA STATE CAPITOL COMPLEX, Harrisburg, PA (boundary expansion and updated documentation)

FOR FURTHER INFORMATION CONTACT: Patricia Henry, National Historic Landmarks Program, National Park Service; 1849 C Street NW. (2280); Washington, DC 20240; Telephone (202) 354-2216; Email: Patty_Henry@nps.gov.

SUPPLEMENTARY INFORMATION: The purpose of the meeting of the Landmarks Committee of the National Park System Advisory Board is to evaluate nominations of historic properties in order to advise the National Park System Advisory Board of the qualifications of each property being proposed for National Historic Landmark (NHL) designation, and to make recommendations regarding the possible designation of those properties as National Historic Landmarks to the National Park System Advisory Board at a subsequent meeting at a place and time to be determined. The Committee also makes recommendations to the National Park System Advisory Board regarding amendments to existing designations and proposals for withdrawal of designation. The members of the Landmarks Committee are:

Mr. Ronald James, Chair

Dr. James M. Allan

Dr. Cary Carson

Dr. Darlene Clark Hine

Mr. Luis Hoyos, AIA

Dr. Barbara J. Mills

Dr. William J. Murtagh

Dr. Franklin Odo

Dr. William D. Seale

Dr. Michael E. Stevens

The meeting will be open to the public. Pursuant to 36 CFR Part 65, any member of the public may file, for consideration by the Landmarks Committee of the National Park System Advisory Board, written comments concerning the National Historic Landmarks nominations, amendments to existing designations, or proposals for withdrawal of designation.

Comments should be submitted to J. Paul Loether, Chief, National Register of Historic Places and National Historic Landmarks Program, National Park Service; 1849 C Street NW. (2280); Washington, DC 20240; Email: Paul_Loether@nps.gov.

Before including your address, phone number, email address, or other personal identifying information in your comment, you should be aware that your entire comment—including your personal identifying information—may be made publicly available at any time. While you can ask us in your comment to withhold your personal identifying information from public review, we cannot guarantee that we will be able to do so.

Dated: August 17, 2012.
Alexandra Lord,
Acting Chief, National Register of Historic Places and National Historic Landmarks Program; National Park Service, Washington, DC.

[FR Doc. 2012-21466 Filed 8-30-12; 8:45 am]

BILLING CODE 4312-51-P